DEPARTMENT OF COMMERCE

Foreign-Trade Zones Board

[S-114-2013]

Foreign-Trade Zone 247—Erie, Pennsylvania, Application for Subzone, Hardinger Transfer Co., Erie and Grove City, Pennsylvania

An application has been submitted to the Foreign-Trade Zones (FTZ) Board by the Erie-Western Pennsylvania Port Authority, grantee of FTZ 247, requesting subzone status for the facilities of Hardinger Transfer Co., dba Team Hardinger Transportation and Warehousing (Team Hardinger), located in Erie and Grove City, Pennsylvania. The application was submitted pursuant to the provisions of the Foreign-Trade Zones Act, as amended (19 U.S.C. 81a-81u), and the regulations of the FTZ Board (15 CFR part 400). It was formally docketed on July 24, 2013.

The proposed subzone would consist of the following sites: Site 1 (36 acres) 3106 McCain Avenue, Erie, Erie County; Site 2 (19 acres) 1314 West 18th Street, Erie, Erie County; and, Site 3 (40 acres) 156 Hardinger Boulevard, Grove City, Venango County. No authorization for production activity has been requested at this time. The proposed subzone would be subject to the existing activation limit of FTZ 247.

In accordance with the FTZ Board's regulations, Elizabeth Whiteman of the FTZ Staff is designated examiner to review the application and make recommendations to the Executive Secretary.

Public comment is invited from interested parties. Submissions shall be addressed to the FTZ Board's Executive Secretary at the address below. The closing period for their receipt is September 9, 2013. Rebuttal comments in response to material submitted during the foregoing period may be submitted during the subsequent 15-day period to September 23, 2013.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For Further Information Contact: Elizabeth Whiteman at Elizabeth.Whiteman@trade.gov or (202) 482-0473.

Dated: July 24, 2013.
Andrew McGilvray,
Executive Secretary.

[FR Doc. 2013-18319 Filed 7-29-13; 8:45 am]

BILLING CODE 3510-DS-P